DEPARTMENT OF HEALTH AND HUMAN SERVICES

Centers for Disease Control and Prevention

[Docket No. CDC-2024-0050]

Vessel Sanitation Program: Annual Program Status Meeting; Request for Comment

AGENCY: Centers for Disease Control and Prevention (CDC), Department of Health and Human Services (HHS).

ACTION: Notice with comment period.

SUMMARY: The Centers for Disease Control and Prevention (CDC) in the Department of Health and Human Services (HHS) announces the opening of a docket to obtain comment on the FY 2024 annual Vessel Sanitation Program (VSP) public meeting. The August 5, 2024, annual meeting is a forum for CDC to update cruise industry representatives and other interested persons on programmatic activities and future plans. CDC is opening a public docket for additional comments and materials. The official record of this meeting will remain open through August 30, 2024 so comments related to the discussion topics can be part of the record.

DATES: Written comments must be received on or before August 30, 2024.

ADDRESSES: You may submit comments, identified by Docket No. CDC-2024-0050, by either of the methods listed below. Do not submit comments by email. CDC does not accept comments by email.

• Federal eRulemaking Portal: https://www.regulations.gov. Follow the instructions for submitting comments.

• Mail: Vessel Sanitation Program, National Center for Environmental Health, Centers for Disease Control and Prevention, 4770 Buford Highway NE, MS S106-6, Atlanta, Georgia 30341.

Instructions: All submissions received must include the agency name and Docket Number. All relevant comments received will be posted without change to https://www.regulations.gov, including any personal information provided. For access to the docket to read background documents or comments received, go to https://www.regulations.gov.

FOR FURTHER INFORMATION CONTACT: Captain Luis Rodriguez, Vessel Sanitation Program, National Center for Environmental Health, Centers for Disease Control and Prevention, 4770 Buford Highway NE, MS S106-6, Atlanta, Georgia 30341; email: vsp@cdc.gov; phone: (800) 323-2132.

SUPPLEMENTARY INFORMATION:

Meeting Purpose

The purpose of the annual meeting is to inform the public of VSP's activities to help the cruise industry prevent the introduction and spread of acute gastroenteritis (AGE) to U.S. ports from ships under VSP's jurisdiction. Ships under VSP jurisdiction have 13 or more passengers and an itinerary that includes foreign and U.S. ports.

Discussion topics: VSP programmatic activities, epidemiology data and projects, and partner updates.

Meeting accessibility: Interested persons or organizations are invited to participate in the annual meeting in person, but space is limited to approximately 125 people. Advanced registration is required. Information regarding logistics is available on the VSP website (https://www.cdc.gov/vessel-sanitation/php/meetings-announcements). Attendees at the annual meeting normally include cruise ship industry officials, private sanitation consultants, and other interested parties.

Deadline for requests for special accommodations: Persons wishing to participate in the public meeting who need special accommodations should contact Captain Luis Rodriguez by July 15, 2024 (email: vsp@cdc.gov or phone: (800) 323-2132).

Public Participation

Interested persons or organizations are invited to participate by submitting written views, recommendations, and data. In addition, CDC invites comments specifically on the following topics for discussion at the public meeting: VSP programmatic activities, epidemiology data and projects, and partner updates.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. Do not submit comments by email. CDC does not accept comment by email.

Noah Aleshire,
Chief Regulatory Officer, Centers for Disease Control and Prevention.

[FR Doc. 2024-14475 Filed 6-28-24; 8:45 am]

BILLING CODE 4163-18-P